DEPARTMENT OF LABOR

Employment and Training Administration

[TA-W-62,804]

HP Pelzer Automotive Systems, Incorporated, a Subsidiary of HP Pelzer Group, Thomson Plant; Including On-Site Leased Workers From Aerotek and Global Employment Solutions, Thomson, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and a Negative Determination Regarding Eligibility to Apply for Alternative Trade Adjustment Assistance on March 19, 2008, applicable to workers of HP Pelzer Automotive Systems, Incorporated, a subsidiary of HP Pelzer Group, Thomson Plant, including on-site leased workers from Aerotek, Thomson, Georgia. The notice was published in the Federal Register on April 24, 2008 (73 FR 22169).

At the request of the State agency, the Department reviewed the certification for workers of the subject firm. The workers are engaged in the production of acoustic products for automobile insulation, including but not limited to carpeting, outer dashes, hood-liners, tunnel silencers.

New information shows that in August 2008, the subject firm switched its' on-site leased worker contract from Aerotek to Global Employment Solutions. The Department has determined that workers leased from Global Employment Solutions were sufficiently under the control of HP Pelzer Automotive Systems, Inc., a subsidiary of HP Pelzer Group to be considered leased workers.

Based on these findings, the Department is amending this certification to include workers leased from Global Employment Solutions working on-site at the Thomson, Georgia location of the subject firm.

The intent of the Department's certification is to include all workers employed at HP Pelzer Automotive Systems, Incorporated, a subsidiary of HP Pelzer Group, Thomson Plant, Thomson, Georgia who were adversely affected by increased imports.

The amended notice applicable to TA-W-62,804 is hereby issued as follows:

All workers of HP Pelzer Automotive Systems, Incorporated, a subsidiary of HP Pelzer Group, Thomson Plant, including on-site leased workers from Aerotek and Global Employment Solutions, Thomson, Georgia, who became totally or partially separated from employment on or after January 9, 2007, through March 19, 2010, are eligible to apply for adjustment assistance under Section 223 of the Trade Act of 1974, and are also eligible to apply for alternative trade adjustment assistance under Section 246 of the Trade Act of 1974.

Signed at Washington, DC, this 15th day of January 2009.
Linda G. Poole,
Certifying Officer, Division of Trade Adjustment Assistance.

[FR Doc. E9-2136 Filed 1-30-09; 8:45 am]

BILLING CODE 4510-FN-P